DEPARTMENT OF HEALTH AND HUMAN SERVICES

Health Resources and Services Administration

Agency Information Collection Activities: Submission to OMB for Review and Approval; Public Comment Request; Black Lung Clinics Program Performance Measures

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than November 21, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Black Lung Clinics Program Performance Measures, OMB No. 0915-0292—Revision.

Abstract: The Black Lung Clinics Program (BLCP) is authorized under Sec. 427(a) of the Federal Mine Safety and Health Act of 1977 (30 U.S.C. 937(a)) and accompanying regulations (42 CFR part 55a). The purpose of the BLCP is to reduce the morbidity and mortality associated with occupationally related coal mine dust lung disease through the screening, diagnosis, and treatment of active, inactive, retired, and/or disabled coal miners. HRSA currently collects information about BLCP awards using an OMB-approved set of performance measures and seeks to extend the approved collection. There are no proposed changes to the performance measures; however, there is a 45-hour decrease in estimated burden hours due to the streamlining of the data collection process, allowing awardees/respondents to be more efficient in collecting and submitting the data for this information collection. Collecting this data provides HRSA with information on how well each awardee is meeting the needs of these miners in their communities.

A 60-day notice was published in the Federal Register on June 21, 2024, vol. 89, No. 120; pp. 52065. There were no public comments.

Need and Proposed Use of the Information: Data from the annual report provides quantitative information about the clinics, specifically: (1) the characteristics of the patients they serve (gender, age, disability level, occupation type); (2) the characteristics of services provided (medical encounters, non-medical encounters, benefits counseling, and outreach); and (3) the number of patients served. These programmatic performance measures enable HRSA to provide data required by Congress under the Government Performance and Results Act of 1993. It also ensures that funds are effectively used to provide services that meet the target population's needs. HRSA does not plan to make any changes to the performance measures at this time. The estimated average burden per response has decreased because the data collection process has been streamlined and enabled awardees/respondents to be more efficient in collecting and submitting the data for this information collection.

Likely Respondents: Respondents will be BLCP award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the following table:

Total Estimated Annualized Burden Hours
Form name | Number of respondents | Number of responses per respondent | Total responses | Average burden per response (in hours) | Total burden hours
Black Lung Clinics Program Measures | 15 | 1 | 15 | 7 | 105
Total | 15 |  | 15 |  | 105

Maria G. Button,
Director, Executive Secretariat.

[FR Doc. 2024-24392 Filed 10-21-24; 8:45 am]

BILLING CODE 4165-15-P